DEPARTMENT OF STATE

[Public Notice 7249]

Bureau of Western Hemisphere Affairs; Executive Order 11423, as Amended; Notice of Receipt of Application for a Presidential Permit To Renovate and Expand the San Ysidro Land Port of Entry on the U.S.-Mexico Border at San Diego, CA and Tijuana, Baja CA, Mexico

AGENCY: Department of State.

ACTION: Notice.

SUMMARY: The Department of State hereby gives notice that, on November 10, 2010, it received an application for a Presidential Permit to authorize the renovation and expansion of the San Ysidro border crossing facility on the U.S.-Mexico border at San Diego, California and Tijuana, Baja California, Mexico. The General Services Administration (GSA) filed this application and is acting as the project's sponsor. The Department of State's jurisdiction over this application is based upon Executive Order 11423 of August 16, 1968, as amended. As provided in E.O. 11423, the Department is circulating this application to relevant federal and state agencies for review and comment. Under E.O. 11423, the Department has the responsibility to determine, taking into account input from these agencies and other stakeholders, whether this proposed border crossing is in the U.S. national interest.

DATES: Interested members of the public are invited to submit written comments regarding this application on or before February 28, 2011 to Mr. Stewart Tuttle, U.S.-Mexico Border Affairs Coordinator, via e-mail at WHA-BorderAffairs@state.gov or by mail at WHA/MEX—Room 3908, Department of State, 2201 C St. NW., Washington, DC 20520.

FOR FURTHER INFORMATION CONTACT: Mr. Stewart Tuttle, U.S.-Mexico Border Affairs Coordinator, via e-mail at WHA-BorderAffairs@state.gov; by phone at 202-647-6356; or by mail at WHA/MEX—Room 3908, Department of State, 2201 C St. NW., Washington, DC 20520. General information about Presidential Permits is available on the Internet at http://www.state.gov/p/wha/rt/permit/.

SUPPLEMENTARY INFORMATION: This application and related environmental assessment documents are available for review in the Office of Mexican Affairs, Border Affairs Unit, Department of State, during normal business hours.

Dated: 11-19-2010.
Edward Alexander Lee,
Director, Office of Mexican Affairs, Department of State.

[FR Doc. 2010-29873 Filed 11-26-10; 8:45 am]

BILLING CODE 4710-10-P